FEDERAL COMMUNICATIONS COMMISSION

[DA 09-1979]

FCC Requests Additional Nominations for Membership on the Technological Advisory Council

AGENCY: Federal Communications Commission.

ACTION: Notice.

SUMMARY: In accordance with the Federal Advisory Committee Act, the purpose of this notice is to solicit additional nominations for the Technological Advisory Council (TAC).

DATES: Nominations are due by September 30, 2009.

ADDRESSES: Federal Communications Commission, Walter Johnston, Chief, Electromagnetic Compatibility Division, Office of Engineering and Technology, 445 12th Street, SW., Room 7-A224, Washington, DC 20554.

FOR FURTHER INFORMATION CONTACT: Walter Johnston, Office of Engineering and Technology, Federal Communications Commission, (202) 418-0807, e-mail: Walter.Johnston@fcc.gov, TTY (202) 418-2989.

SUPPLEMENTARY INFORMATION: On April 8, 2009, the Commission issued a public notice soliciting nominations for the Technical Advisory Council (TAC) and nominations were received in response to this notice. Concurrent with the establishment of the TAC, the Commission was charged by Congress to develop a plan that seeks to ensure that people of the United States have access to broadband capability. In support of this and related efforts, the Commission is now seeking additional nominations to the TAC to ensure that its membership best serves the needs of the Commission.

The Commission will accept nominations for the Council through September 30, 2009. Nominations previously submitted remain in consideration. The Commission, at its discretion, may consider nominations received after this date, but consideration of late submissions is not guaranteed. Individuals may apply for, or nominate another individual for, membership on the Council. Each nomination or application must include:

a. The name and title of the applicant or nominee and a description of the interest the applicant or nominee will represent;

b. The applicant's or nominee's mail address, e-mail address, telephone number, and facsimile number (where available);

c. Reasons why the applicant or nominee should be appointed to the Council; and

d. The basis for determining the applicant or nominee has achieved peer recognition as a technical expert.

Further details on the TAC are provided in the April 8, 2009 public notice available at http://hraunfoss.fcc.gov/edocs_public/attachmatch/DA-09-796A1.doc.

Nominations and applications should be sent to Walter Johnston, Chief, Electromagnetic Compatibility Division, Federal Communications Commission, 445 12th Street, SW., Room 7-A224, Washington, DC 20554 or e-mail Walter.Johnston@fcc.gov and please include “TAC nomination” in the subject line.

Federal Communications Commission.
Julius P. Knapp,
Chief, Office of Engineering and Technology.

[FR Doc. E9-21595 Filed 9-4-09; 8:45 am]

BILLING CODE 6712-01-P